DEPARTMENT OF COMMERCE

National Oceanic and Atmospheric Administration

[Docket No.: I.D. 021400C]

RIN 0648-AM28

Notice of Continuing Effect of List of Fisheries

AGENCY: National Marine Fisheries Service (NMFS), National Oceanic and Atmospheric Administration (NOAA), Commerce.

ACTION: Notice of list of fisheries for 2000.

SUMMARY: NMFS provides notification that the List of Fisheries (LOF) published on February 24, 1999, remains in effect.

Under the Marine Mammal Protection Act (MMPA), NMFS must place all U.S. commercial fisheries on the LOF, which categorizes those fisheries based upon the level of incidental mortality and serious injury of marine mammals that occurs in that fishery. The categorization of a fishery in the LOF determines whether participants in that fishery are subject to certain provisions of the MMPA, such as registration, observer coverage, and take reduction plan requirements. The intent of this action is to provide notice that the LOF remains in effect.

ADDRESSES: See SUPPLEMENTARY INFORMATION for addresses of NMFS Regional Offices, where fishery participants may obtain information on registering and reporting.

FOR FURTHER INFORMATION CONTACT: Patricia Lawson, Office of Protected Resources, 301-713-2322; Kim Thounhurst, Northeast Region, 978-281-9138; Kathy Wang, Southeast Region, 727-570-5312; Irma Lagomarsino, Southwest Region, 562-980-4016; Brent Norberg, Northwest Region, 206-526-6733; Brian Fadely, Alaska Region, 907-586-7642. Individuals who use a telecommunications device for the deaf may call the Federal Information Relay Service at 1-800-877-8339 between 8 a.m. and 4 p.m. Eastern time, Monday through Friday, excluding Federal holidays.

SUPPLEMENTARY INFORMATION: Section 118 of the MMPA requires that NMFS place all U.S. commercial fisheries into one of three categories (I, II, III) based on the level of incidental mortality and serious injury of marine mammals that occurs in that fishery. The categorization of a fishery in the LOF determines whether participants in that fishery are subject to certain provisions of the MMPA, such as registration, observer coverage, and take reduction plan requirements. The most recent LOF was published in the Federal Reister on February 24, 1999 (64 FR 9067).

Participants in a Category I or II Fishery are required to be registered under MMPA section 118. This section requires that such participants provide the name of the vessel owner and operator, the name and description of the vessel, the fisheries in which it will be engaged, the approximate time, duration and location of such fishery operations, and the general type and nature of use of the fishing gear and techniques used.

NMFS generally provides registration and reporting forms to fishery participants for their use. However, the Office of Management and Budget(OMB) approval for NMFS registration and reporting forms expired on December 31, 1999. Accordingly, NMFS may not require that participants in a fishery use its forms to register until OMB approval has been received. NMFS expects to have OMB approval by May 2000 and will publish notice in the Federal Register of OMB approval when received. Nonetheless, under section 118 of the MMPA, fishery participants still remain obligated to register and report as required by MMPA section 118. Failure to register or report. Failure to register or report in accordance with MMPA section 118 is a violation of the MMPA. Some states have integrated the NMFS registration process into the existing state fishery registration progran and are exempt from submitting a registration packet. For a list of fisheries that have integrated registration programs, see 64 FR 9068 (February 24, 1999). Fishery participants that do not have an intergrated registration program maay register with and report to the following regional offices:

NMFS, Northeast Region, One Blackburn Drive, Gloucester, MA 01930-2298, Attn: Sandra Arvilla;

NMFS, Southeast Region, 9721 Executive Center Drive North, St. Petersburg, FL 33702, Attn: Joyce Mochrie;

NMFS, Southwest Region, Protected Species Management Division, 501 W. Ocean Blvd., Suite 4200, Long Beach, CA 90802-4213, Attn: Don Peterson;

NMFS, Northwest Region, 7600 Sand Point Way NE, Seattle, WA 98115, Attn: Permits Office;

NMFS, Alaska Region, Protected Resources, P.O. Box 22668, 709 West 9th Street, Juneau, AK 99802, Attn: Ursula Jorgensen.

The following tables list U.S. commercial fisheries according to their assigned categories under section 118 of the MMPA. When possible, we express the estimated number of vessels in terms of the number of active participants in the fishery. If this information is not available, we provide the estimated number of vessels or persons licensed for a particular fishery. If no recent information is available on the number of participants in a fishery, we use the number from the 1998 LOF. The tables also list the marine mammal species/stocks that are incidentally killed or injured in each fishery based on observer data, logbook data, stranding reports, and fishers reports. This list includes all species or stocks known to incur injury or mortality for a given fishery; however, not all species or stocks identified are necessarily independently responsible for a fisheries categorization. There are a few fisheries that are in Category II that do not have any recently documented interactions with marine mammals; the justification for categorization of these fisheries are by analogy to similar gear types that are known to injure or kill marine mammals, as discussed in the final LOF for 1996 (60 FR 45086, December 28, 1995).

Commercial fisheries in the Pacific Ocean are listed in Table 1—commercial fisheries in the Atlantic Ocean are listed in Table 2. An asterisk (*) indicates that the stock is a strategic stock; a plus (+) indicates that the stock is listed as threatened or endangered under the Endangered Species Act.

Table 1.—List of Fisheries
Commercial Fisheries in the Pacific Ocean
Fishery Description | Estimated # of vessels/persons | Marine mammal species/stocks incidentally killed/injured
Category I
GILLNET FISHERIES: |  |
CA angel shark/halibut and other species large mesh (>3.5in) set gillnet | 58 | Harbor porpoise, central CA Common dolphin, short-beaked, CA/OR/WA Common dolphin, long-beaked CA California sea lion, U.S. Harbor seal, CA Northern elephant seal, CA breeding Sea otter, CA
CA/OR thresher shark/swordfish drift gillnet | 130 | Steller sea lion, Eastern U.S.*+ Sperm whale, CA/OR/WA*+ Dall's porpoise, CA/OR/WA Pacific white sided dolphin, CA/OR/WA Risso's dolphin, CA/OR/WA Bottlenose dolphin, CA/OR/WA offshore Short-beaked common dolphin CA/OR/WA Long-beaked common dolphin CA/OR/WA Northern right whale dolphin, CA/OR/WA Short-finned pilot whale, CA/OR/WA* Baird's beaked whale, CA/OR/WA Mesoplodont beaked whale, CA/OR/WA Cuvier's beaked whale, CA/OR/WA Pygmy sperm whale, CA/OR/WA California sea lion, U.S. Northern elephant seal, CA breeding Humpback whale, CA/OR/WA-Mexico* Minke whale, CA/OR/WA Striped dolphin, CA/OR/WA Killer whale, CA/OR/WA Pacific coast Northern fur seal, San Miguel Island
Category II
GILLNET FISHERIES: |  |
Prince William Sound salmon drift gillnet | 509 | Steller sea lion, Western U.S.*+ Northern fur seal, Eastern Pacific* Harbor seal, GOA* Pacific white-sided dolphin, central North Pacific Harbor porpoise, GOA Dall's porpoise, AK
AK Peninsula/ Aleutian Islands salmon drift gillnet | 163 | Northern fur seal, Eastern Pacific* Harbor seal, GOA Harbor porpoise, Bering Sea Dall's porpoise, AK
AK Peninsula/ Aleutian Islands salmon set gillnet | 110 | Steller sea lion, Western U.S.*+ Harbor porpoise, Bering Sea
AK Southeast Alaska salmon drift gillnet | 439 | Steller sea lion, Eastern U.S.*+ Harbor seal, Southeast AK Pacific white-sided dolphin, central North Pacific Harbor porpoise, Southeast AK Dall's porpoise, AK Humpback whale, central North Pacific*+
AK Cook Inlet salmon drift gillnet | 560 | Steller sea lion, Western U.S.*+ Harbor seal, GOA* Harbor porpoise, GOA Dall's porpoise, AK Beluga, Cook Inlet*
AK Cook Inlet salmon set gillnet | 604 | Steller sea lion, Western U.S.*+ Harbor seal, GOA* Harbor porpoise, GOA Beluga, Cook Inlet* Dall's porpoise, AK
AK Yakutat salmon set gillnet | 139 | Harbor seal, Southeast AK Gray whale, Eastern North Pacific
AK Kodiak salmon set gillnet | 172 | Harbor seal, GOA* Harbor porpoise, GOA Sea otter, AK
AK Bristol Bay salmon drift gillnet | 1,884 | Steller sea lion, Western U.S.*+ Northern fur seal, Eastern Pacific* Harbor seal, Bering Sea Beluga, Bristol Bay Gray whale, Eastern North Pacific Spotted seal, AK Pacific white-sided dolphin, central North Pacific
AK Bristol Bay salmon set gillnet | 941 | Harbor seal, Bering Sea Beluga, Bristol Bay Gray whale, Eastern North Pacific Northern fur seal, Eastern Pacific* Spotted seal, AK
AK Metlakatla/ Annette Island salmon drift gillnet | 60 | None documented
WA Puget Sound Region salmon drift gillnet (includes all inland waters south of US-Canada border and eastward of the Bonilla-Tatoosh line—Treaty Indian fishing is excluded) | 725 | Harbor porpoise, inland WA Dall's porpoise, CA/OR/WA Harbor seal, WA inland
PURSE SEINE FISHERIES: |  |
CA anchovy, mackerel, tuna purse seine | 150 | Bottlenose dolphin, CA/OR/WA offshore California sea lion, U.S. Harbor seal, CA
CA squid purse seine | 65 | Short-finned pilot whale, CA/OR/WA*
AK Southeast Alaska salmon purse seine | 357 | Humpback whale, central North Pacific*+
TRAWL FISHERIES: |  |
AK miscellaneous finfish pair trawl | 4 | None documented
LONGLINE FISHERIES: |  |
OR swordfish floating longline | 2 | None documented
OR blue shark floating longline | 1 | None documented
Category III
GILLNET FISHERIES: |  |
AK Prince William Sound salmon set gillnet | 26 | Steller sea lion, Western U.S.*+ Harbor seal, GOA*
AK Kuskokwim, Yukon, Norton Sound, Kotzebue salmon gillnet | 1,491 | None documented
AK roe herring and food/bait herring gillnet | 1,687 | None documented
WA, OR herring, smelt, shad, sturgeon, bottom fish, mullet perch, rockfish gillnet | 913 | None documented
WA Willapa Bay drift gillnet | 82 | Harbor seal, OR/WA coast Northern elephant seal, CA breeding
WA Grays Harbor salmon drift gillnet (excluding treaty Tribal fishing) | 24 | Harbor seal, OR/WA coast
WA, OR lower Columbia River (includes tributaries) drift gillnet | 110 | California sea lion, U.S. Harbor seal, OR/WA coast
CA set and drift gillnet fisheries that use a stretched mesh size of 3.5 in or less | 341 | None documented
AK miscellaneous finfish set gillnet | 4 | Steller sea lion, Western U.S.*+
Hawaii gillnet | 115 | Bottlenose dolphin, HI Spinner dolphin, HI
PURSE SEINE, BEACH SEINE, ROUND HAUL AND THROW NET FISHERIES: |  |
AK salmon purse seine (except Southeast Alaska, which is in Category II) | 586 | Harbor seal, GOA*
AK salmon beach seine | 6 | None documented
AK roe herring and food/bait herring purse seine | 517 | None documented
AK roe herring and food/bait herring beach seine | 1 | None documented
AK Metlakatla salmon purse seine | 10 | None documented
AK octopus/squid purse seine | 2 | None documented
CA herring purse seine | 100 | Bottlenose dolphin, CA coastal California sea lion, U.S. Harbor seal, CA
CA sardine purse seine | 120 | None documented
AK miscellaneous finfish purse seine | 4 | None documented
AK miscellaneous finfish beach seine | 1 | None documented
WA salmon purse seine | 440 | None documented
WA salmon reef net | 53 | None documented
WA, OR herring, smelt, squid purse seine or lampara | 130 | None documented
WA (all species) beach seine or drag seine | 235 | None documented
HI purse seine | 18 | None documented
HI opelu/akule net | 16 | None documented
HI throw net, cast net | 47 | None documented
DIP NET FISHERIES: |  |
WA, OR smelt, herring dip net | 119 | None documented
CA squid dip net | 115 | None documented
MARINE AQUACULTURE FISHERIES: |  |
WA, OR salmon net pens | 14 | California sea lion, U.S. Harbor seal, WA inland waters
CA salmon enhancement rearing pen | >1 | None documented
OR salmon ranch | 1 | None documented
TROLL FISHERIES: |  |
AK salmon troll | 1,149 | Steller sea lion, Eastern U.S.*+
CA/OR/WA salmon troll | 4,300 | None documented
AK north Pacific halibut, AK bottom fish, WA, OR, CA albacore, groundfish, bottom fish, CA halibut non-salmonid troll fisheries | 1,354 | None documented
HI trolling, rod and reel | 1,795 | None documented
Guam tuna troll | 50 | None documented
Commonwealth of the Northern Mariana Islands tuna troll | 50 | None documented
American Samoa tuna troll | <50 | None documented
HI net unclassified | 106 | None documented
LONGLINE/SET LINE FISHERIES: |  |
AK state waters groundfish longline/set line | 840 | None documented
Miscellaneous finfish/groundfish longline/set line | 594 | Harbor seal, GOA* Harbor seal, Bering Sea Dall's porpoise, AK Steller sea lion, Western U.S, Harbor seal, Southeast AK Northern elephant seal, CA breeding
HI swordfish, tuna, billfish, mahi mahi, wahoo, oceanic sharks longline/set line | 140 | Hawaiian monk seal*+ Humpback whale, Central North Pacific*+ Risso's dolphin, HI Bottlenose dolphin, HI Spinner dolphin, HI Short-finned pilot whale, HI
WA, OR North Pacific halibut longline/set line | 350 | None documented
AK southern Bering Sea, Aleutian Islandsand Western Gulf of Alaskasablefish longline/set line (federally regulated waters) | 762 | Northern elephant seal, CA breeding Killer whale, resident Killer whale, transient Steller sea lion, Western U.S. Pacific white-sided dolphin, central North Pacific Dall's porpoise, AK
AK halibut, longline/set line (state and Federal waters) | 2,882 | Steller sea lion, Western U.S.
WA, OR, CA groundfish, bottomfish longline set line | 367 | None documented
AK octopus/squid longline | 2 | None documented
CA shark/bonito longline/set line | 10 | None documented
TRAWL FISHERIES: |  |
WA, OR, CA shrimp trawl | 300 | None documented
AK shrimp otter trawl and beam trawl (statewide and Cook Inlet) | 62 | None documented
AK Gulf of Alaska groundfish trawl | 201 | Steller sea lion, Western U.S.*+ Northern fur seal, Eastern Pacific* Harbor seal, GOA* Dall's porpoise, AK Northern elephant seal, CA breeding
AK Bering Sea and Aleutian Islands groundfish trawl | 193 | Steller sea lion, Western U.S.*+ Northern fur seal, Eastern Pacific* Killer whale, resident Killer whale, transient Pacific white-sided dolphin, central North Pacific Harbor porpoise, Bering Sea Harbor seal, Bering Sea Harbor seal, GOA* Bearded seal, AK Ringed seal, AK Spotted seal, AK Dall's porpoise, AK Ribbon seal, AK Northern elephant seal, CA breeding Sea otter, Southwest AK Pacific Walrus , AK
AK state-managed waters of Cook Inlet, Kachemak Bay, Prince William Sound, Southeast AK groundfish trawl | 5 | None documented
AK miscellaneous finfish otter or beam trawl | 312 | None documented
AK food/bait herring trawl | 4 | None documented
WA, OR, CA groundfish trawl | 585 | Steller sea lion, Eastern U.S.*+ Northern fur seal, Eastern Pacific* Pacific white-sided dolphin, central North Pacific Dall's porpoise, CA/OR/WA California sea lion, U.S. Harbor seal, OR/WA coast
POT, RING NET, AND TRAP FISHERIES: |  |
AK crustacean pot | 1,496 | Harbor porpoise, Southeast AK
AK Bering Sea, Gulf of Alaska finfish pot | 274 | Harbor porpoise, SDoutheast AK Harbor seal, GOA* Harbor seal, Bering Sea Sea otter, Southwest AK
WA, OR, CA sablefish pot | 176 | None documented
WA, OR, CA crab pot | 1,478 | None documented
WA, OR shrimp pot & trap | 254 | None documented
CA lobster, prawn, shrimp, rock crab, fish pot | 608 | Sea otter, CA
OR, CA hagfish pot or trap | 25 | None documented
HI lobster trap | 15 | Hawaiian monk seal*+
HI crab trap | 22 | None documented
HI fish trap | 19 | None documented
HI shrimp trap | 5 | None documented
HANDLINE AND JIG FISHERIES: |  |
AK North Pacific halibut handline and mechanical jig | 266 | None documented
AK miscellaneous finfish handline and mechanical jig | 258 | None documented
AK octopus/squid handline | 2 | None documented
WA groundfish, bottomfish jig | 679 | None documented
HI aku boat, pole and line | 54 | None documented
HI inshore handline | 650 | Bottlenose dolphin, HI
HI deep sea bottomfish | 434 | Hawaiian monk seal*+
HI tuna | 144 | Rough-toothed dolphin, HI Bottlenose dolphin, HI Hawaiian monk seal*+
Guam bottomfish | <50 | None documented
Commonwealth of the Northern Mariana Islands bottomfish | <50 | None documented
American Samoa bottomfish | <50 | None documented
HARPOON FISHERIES: |  |
CA swordfish harpoon | 228 | None documented
POUND NET/WEIR FISHERIES: |  |
AK Southeast AK Alaska herring food/bait pound net | 154 | None documented
WA herring brush weir | 1 | None documented
BAIT PENS |  |
WA/OR/CA bait pens | 13 | None documented
DREDGE FISHERIES: |  |
Coastwide scallop dredge | 106 | None documented
DIVE, HAND/MECHANICAL COLLECTION FISHERIES: |  |
AK abalone | 9 | None documented
AK dungeness crab | 3 | None documented
AK herring spawn-on-kelp | 200 | None documented
AK urchin and other fish/shellfish | 442 | None documented
AK clam hand shovel | 62 | None documented
AK clam mehanical/hydraulic | 19 | None documented
WA herring spawn-on-kelp | 4 | None documented
WA/OR sea urchin, other clam, octopus, oyster, sea cucumber, scallop, ghost shrimp hand, dive, or mechanical collection | 637 | None documented
CA abalone | 111 | None documented
CA sea urchin | 583 | None documented
HI squiding, spear | 267 | None documented
HI lobster diving | 6 | None documented
HI coral diving | 2 | None documented
HI handpick | 135 | None documented
WA shellfish aquaculture | 684 | None documented
WA, CA kelp | 4 | None documented
HI fish pond | 10 | None documented
COMMERCIAL PASSENGER FISHING VESSEL (CHARTER BOAT) FISHERIES: |  |
AK, WA, OR, CA commercial passenger fishing vessel | >4,000 | None documented
AK octopus/squid ≥other≥ | 19 | None documented
HI “other” | 114 | None documented
LIVE FINFISH/SHELLFISH FISHERIES: |  |
CA finfish and shellfish live trap/hook-and-line | 93 | None documented
¹ * Marine mammal stock is strategic or is proposed to be listed as strategic in the draft SARs for 1999.
² + stock is listed as threatened or endangered under the Endangered Species Act (ESA) or as depleted under the MMPA.
³ List of Abbreviations Used in Table 1 AK - Alaska GOA - Gulf of Alaska CA - California OR - Oregon HI - Hawaii WA - Washington

Table 2—List of Fisheries
Commercial Fisheries in the Atlantic Ocean, Gulf of Mexico, and Caribbean
Fishery Description | Estimated # of vessels/persons | Marine mammal species/stocks incidentally injured/killed
Category I
GILLNET FISHERIES: |  |
Atlantic Ocean, Caribbean, Gulf of Mexico large pelagics drift gillnet | 15 | North Atlantic right whale, WNA*+ Humpback whale, WNA*+ Sperm whale, WNA*+ Dwarf sperm whale, WNA* Cuvier's beaked whale, WNA* True's beaked whale, WNA* Gervais' beaked whale, WNA* Blainville's beaked whale, WNA* Risso's dolphin, WNA Long-finned pilot whale, WNA* Short-finned pilot whale, WNA* White-sided dolphin, WNA* Common dolphin, WNA* Atlantic spotted dolphin, WNA* Pantropical spotted dolphin, WNA* Striped dolphin, WNA Spinner dolphin, WNA Bottlenose dolphin, WNA offshore Harbor porpoise, GME/BF*
Northeast sink gillnet | 341 | North Atlantic right whale, WNA*+ Humpback whale, WNA*+ Minke whale, Canadian east coast Killer whale, WNA White-sided dolphin, WNA* Bottlenose dolphin, WNA offshore Harbor porpoise, GME/BF* Harbor seal, WNA Gray seal, WNA Common dolphin, WNA * Fin whale, WNA *+ Spotted dolphin, WNA False killer whale, WNA Harp seal, WNA
LONGLINE FISHERIES: |  |
Atlantic Ocean, Caribbean, Gulf of Mexico large pelagics longline | 361 | Humpback whale, WNA*+ Minke whale, Canadian east coast Risso's dolphin, WNA Long-finned pilot whale, WNA* Short-finned pilot whale, WNA* Common dolphin, WNA* Atlantic spotted dolphin, WNA* Pantropical spotted dolphin, WNA* Striped dolphin, WNA Bottlenose dolphin, WNA offshore Bottlenose dolphin, GMX Outer Continental Shelf Bottlenose dolphin, GMX Continental Shelf Edge and Slope Atlantic spotted dolphin, Northern GMX Pantropical spotted dolphin, Northern GMX Risso's dolphin, Northern GMX Harbor porpoise, GME/BF*
TRAP/POT FISHERIES—LOBSTER: |  |
Gulf of Maine, U.S. mid-Atlantic lobster trap/pot | 13,000 | North Atlantic right whale, WNA*+ Humpback whale, WNA*+ Fin whale, WNA*+ Minke whale, Canadian east coast White-sided dolphin, WNA* Harbor seal, WNA Harbor seal, WNA
Category II
GILLNET FISHERIES: |  |
U.S. mid-Atlantic coastal gillnet | >655 | Humpback whale, WNA*+ Minke whale, Canadian east coast Bottlenose dolphin, WNA offshore Bottlenose dolphin, WNA coastal*+ Harbor porpoise, GME/BF*
Gulf of Maine small pelagics surface gillnet | 133 | Humpback whale, WNA*+ White-sided dolphin, WNA* Harbor seal, WNA
Southeastern U.S. Atlantic shark gillnet | 12 | Bottlenose dolphin, WNA coastal* North Atlantic right whale, WNA*+
TRAWL FISHERIES: |  |
Atlantic squid, mackerel, butterfish trawl | 620 | Common dolphin, WNA* Risso's dolphin, WNA Long-finned pilot whale, WNA* Short-finned pilot whale, WNA* White-sided dolphin, WNA*
Atlantic herring midwater trawl (including pair trawl) | 17 | None documented
PURSE SEINE FISHERIES: |  |
Gulf of Mexico menhaden purse seine | 50 | Bottlenose dolphin, Western GMX coastal Bottlenose dolphin, Northern GMX coastal
HAUL SEINE FISHERIES: |  |
Mid-Atlantic haul seine | 25 | Bottlenose dolphin, WNA coastal* Harbor porpoise, GME/BF*
STOP NET FISHERIES: |  |
North Carolina roe mullet stop net | 13 | Bottlenose dolphin, WNA coastal*
Category III
GILLNET FISHERIES: |  |
Rhode Island, southern Massachusetts (to Monomoy Island), and New York Bight (Raritan and Lower New York Bays) inshore gillnet | 32 | Humpback whale, WNA*+ Bottlenose dolphin, WNA coastal*+ Harbor porpoise, GME/BF*
Long Island Sound inshore gillnet | 20 | Humpback whale, WNA*+ Bottlenose dolphin, WNA coastal*+ Harbor porpoise, GME/BF*
Delaware Bay inshore gillnet | 60 | Humpback whale, WNA*+ Bottlenose dolphin, WNA coastal*+ Harbor porpoise, GME/BF*
Chesapeake Bay inshore gillnet | 45 | None documented
North Carolina inshore gillnet | 94 | Bottlenose dolphin, WNA coastal*+
Gulf of Mexico inshore gillnet (black drum, sheepshead, weakfish, mullet, spot, croaker) | unknown | None documented
Gulf of Maine, Southeast U.S. Atlantic coastal shad, sturgeon gillnet | 1,285 | Minke whale, Canadian east coast Harbor porpoise, GME/BF* Bottlenose dolphin, WNA coastal*+
Gulf of Mexico coastal gillnet (includes mullet gillnet fishery in LA and MS) | unknown | Bottlenose dolphin, Western GMX coastal Bottlenose dolphin, Northern GMX coastal Bottlenose dolphin, Eastern GMX coastal Bottlenose dolphin, GMX Bay, Sound, & Estuarine*
Florida east coast, Gulf of Mexico pelagics king and Spanish mackerel gillnet | 271 | Bottlenose dolphin, Western GMX coastal Bottlenose dolphin, Northern GMX coastal Bottlenose dolphin, Eastern GMX coastal Bottlenose dolphin, GMX Bay, Sound, & Estuarine*
TRAWL FISHERIES: |  |
North Atlantic bottom trawl | 1,052 | Long-finned pilot whale, WNA* Short-finned pilot whale, WNA* Common dolphin, WNA* White-sided dolphin, WNA* Striped dolphin, WNA Bottlenose dolphin, WNA offshore
Mid-Atlantic, Southeastern U.S. Atlantic, Gulf of Mexico shrimp trawl | >18,000 | Bottlenose dolphin, WNA coastal*+
Gulf of Maine northern shrimp trawl | 320 | None documented
Gulf of Maine, Mid-Atlantic sea scallop trawl | 215 | None documented
Mid-Atlantic mixed species trawl | >1,000 | None documented
Gulf of Mexico butterfish trawl | 2 | Atlantic spotted dolphin, Eastern GMX Pantropical spotted dolphin, Eastern GMX
Georgia, South Carolina, Maryland whelk trawl | 25 | None documented
Calico scallops trawl | 200 | None documented
Bluefish, croaker, flounder trawl | 550 | None documented
Crab trawl | 400 | None documented
U.S. Atlantic monkfish trawl | unknown | Common dolphin, WNA*
MARINE AQUACULTURE FISHERIES: |  |
Finfish aquaculture | 48 | Harbor seal, WNA
Shellfish aquaculture | unknown | None documented
PURSE SEINE FISHERIES: |  |
Gulf of Maine Atlantic herring purse seine | 30 | Harbor porpoise, GME/BF* Harbor seal, WNA Gray seal, Northwest North Atlantic
Mid-Atlantic menhaden purse seine | 22 | Bottlenose dolphin, WNA coastal*+
Gulf of Maine menhaden purse seine | 50 | None documented
Florida west coast sardine purse seine | 10 | Bottlenose dolphin, Eastern GMX coastal
U.S. Atlantic tuna purse seine | unknown | None documented
U.S. Mid-Atlantic hand seine | >250 | None documented
LONGLINE/HOOK-AND-LINE FISHERIES: |  |
Gulf of Maine tub trawl groundfish bottom longline/ hook-and-line | 46 | Harbor seal, WNA Gray seal, Northwest North Atlantic
Southeastern U.S. Atlantic, Gulf of Mexico snapper-grouper and other reef fish bottom longline/hook-and-line | 3,800 | None documented
Southeastern U.S. Atlantic, Gulf of Mexico shark bottom longline/hook-and-line | 124 | None documented
Gulf of Maine, U.S. Mid-Atlantic tuna, shark swordfish hook-and-line/harpoon | 26,223 | None documented
Southeastern U.S. Atlantic, Gulf of Mexico & U.S. Mid-Atlantic pelagic hook-and-line/harpoon | 1,446 | None documented
TRAP/POT FISHERIES—LOBSTER, CRAB, AND FISH: |  |
Gulf of Maine, U.S. mid-Atlantic mixed species trap/pot | 100 | North Atlantic right whale, WNA*+, Humpback whale, WNA*+ Minke whale, Canadian east coast Harbor porpoise, GME/BF* Harbor seal, WNA Gray seal, Northwest North Atlantic
U.S. mid-Atlantic and Southeast U.S. Atlantic black sea bass trap/pot | 30 | None documented
U.S. mid-Atlantic eel trap/pot | >700 | None documented
Atlantic Ocean, Gulf of Mexico blue crab trap/pot | 20,500 | Bottlenose dolphin, WNA coastal* Bottlenose dolphin, Western GMX coastal Bottlenose dolphin, Northern GMX coastal Bottlenose dolphin, Eastern GMX coastal Bottlenose dolphin, GMX Bay, Sound, & Estuarine* West Indian manatee, FL*+
Southeastern U.S. Atlantic, Gulf of Mexico, Caribbean spiny lobster trap/pot | 4,847 | West Indian manatee, FL*+ Bottlenose dolphin, WNA coastal*+
STOP SEINE/WEIR/POUND FISHERIES: |  |
Gulf of Maine herring and Atlantic mackerel stop seine/weir | 50 | North Atlantic right whale, WNA* Humpback whale, WNA*+ Minke whale, Canadian east coast Harbor porpoise, GME/BF* Harbor seal, WNA Gray seal, Northwest North Atlantic
U.S. mid-Atlantic mixed species stop/seine/weir (except the North Carolina roe mullet stop net) | 500 | None documented
U.S. mid-Atlantic crab stop seine/weir | 2,600 | None documented
DREDGE FISHERIES: |  |
Gulf of Maine, U.S. mid-Atlantic sea scallop dredge | 233 | None documented
U.S. mid-Atlantic offshore surfclam and quahog dredge | 100 | None documented
Gulf of Maine mussel | >50 | None documented
U.S. mid-Atlantic/Gulf of Mexico oyster | 7,000 | None documented
HAUL SEINE FISHERIES: |  |
Southeastern U.S. Atlantic, Caribbean haul seine | 25 | None documented
BEACH SEINE FISHERIES: |  |
Caribbean beach seine | 15 | West Indian manatee, FL+
DIVE, HAND/MECHANICAL COLLECTION FISHERIES: |  |
Gulf of Maine urchin dive, hand/mechanical collection | >50 | None documented
Atlantic Ocean, Gulf of Mexico, Caribbean shellfish dive, hand/mechanical collection | 20,000 | None documented
COMMERCIAL PASSENGER FISHING VESSEL (CHARTER BOAT) FISHERIES: |  |
Atlantic Ocean, Gulf of Mexico, Caribbean commercial passenger fishing vessel | 4,000 | None documented
¹ * Marine mammal stock is strategic or is proposed to be listed as strategic in the draft SARs for 1998.
² *+ Stock is listed as threatened or endangered under the ESA or as depleted under the MMPA.
³ *List of Abbreviations Used in Table 2 FL - Florida NC - North Carolina GA - Georgia SC - South Carolina GME/BF - Gulf of Maine/Bay of Fundy TX - Texas GMX - Gulf of Mexico WNA - Western North Atlantic

List of Fisheries for 2001

NMFS is currently conducting a thorough review of the current fisheries classifications and will publish proposed changes to the LOF in the summer of 2000.

Dated: April 19, 2000.
Andrew A. Rosenberg,
Deputy Assistant Administrator for Fisheries, National Marine Fisheries Services.

[FR Doc. 00-10438 Filed 4-25-00; 8:45 am]

BILLING CODE 3510-22-F